DEPARTMENT OF COMMERCE

National Oceanic and Atmospheric Administration

Availability of Final Guidance for Coastal Impact Assistance Program

AGENCY: National Oceanic and Atmospheric Administration, U.S. Department of Commerce.

ACTION: Notice of Availability of Final Guidance for Coastal Impact Assistance Program.

SUMMARY: Notice is hereby given of the availability of Final Guidance for the Coastal Impact Assistance Program (CIAP). The fiscal year 2001 appropriations for the Departments of Commerce, Justice and State created the CIAP.

The CIAP will direct approximately $145 million to the outer continental (OCS) shelf oil and gas producing states of Alaska, Alabama, California, Florida, Louisiana, Mississippi and Texas and the approximately 150 coastal political subdivisions within those states to help mitigate the impacts of OCS activities and protect coastal resources. The CIAP requires these states to submit Coastal Impact Assistance Plans detailing how the funds will be expended. This guidance provides the information necessary for eligible states and coastal political subdivisions to develop CIAP plans and submit them to the National Oceanic and Atmospheric Administration (NOAA).

Copies of the Final Guidance for the Coastal Impact Assistance Program can be found on the NOAA website at http://www.ocrm,nos.noaa.gov/cpd or may be obtained upon request from: Joseph Flanagan, Coastal Programs Division (N/ORM3), Office of Ocean and Coastal Resource Management, NOS, NOAA, 1305 East-West Highway, Silver Spring, Maryland 20910, tel. 301-713-3155, extension 201, e-mail joseph.flanagan@noaa.gov.

FOR FURTHER INFORMATION CONTACT: Josh Lott, Coastal Programs Division (N/ORM3), Office of Ocean and Coastal Resource Management, NOS, NOAA, 1305 East-West Highway, Silver Spring, Maryland 20910, tel. 301-713-3155, extension 178, e-mail josh.lott@noaa.gov.

SUPPLEMENTARY INFORMATION: (1) Program Authorities: Specific authority for this Announcement is found in 43 U.S.C. 1331 et seq., as amended, December 21, 2000. (2) Catalog of Federal Domestic Assistance Numbers: 11.419 for NOAA Coastal Zone Management Program Administration.

I. Introduction

The fiscal year 2001 appropriations act for the Departments of Commerce, Justice, and State created the Coastal Impact Assistance Program (CIAP) by amending the Outer Continental Shelf Lands Act (43 U.S.C. 1331 et seq.). The CIAP recognizes that impacts from Outer Continental Shelf (OCS) oil and gas activities fall disproportionately on the coastal states and localities nearest to where the activities occur, and where the associated facilities are located. The CIAP legislation appropriates money to the Secretary of Commerce who will disburse it to eligible states and coastal political subdivisions, and requires the states to submit Coastal Impact Assistance Plans detailing how the funds will be expended. This guidance provides information necessary for eligible states and coastal political subdivisions to participate in the CIAP. Alabama, Alaska, California, Florida, Louisiana, Mississippi, and Texas are the seven eligible states. Counties, parishes, or equivalent units of government within those states lying all or in part within the coastal zone as defined by section 304(1) of the Coastal Zone Management Act of 1972, as amended (CZMA), are the coastal political subdivisions eligible for CIAP funding (§ 31(a)(1)), a total of 147 local jurisdictions.

States must develop CIAP plans and submit them to the National Oceanic and Atmospheric Administration (NOAA) by July 1, 2001, and NOAA has 90 days from receipt to complete review (§ 31(d)(1), (3)). If a state has not submitted a plan by July 1, 2001, NOAA will hold the funds in escrow provided that the state is making a good faith effort to develop and submit its CIAP plan (§ 31(c)(4)).

II. Funding Allocations

The total fiscal year 2001 appropriation is $149,670,000 (this is $150 million less the 0.22% across the board reduction mandated in the appropriations act). Congress authorized and appropriated funds for the CIAP for fiscal year 2001 only. NOAA may utilize no more than five percent of the available funding to cover some of the costs of program administration. These costs include legal and program work for developing and implementing the program; financial assistance expertise to ensure prompt delivery of funds; technical assistance to address other statutory requirements such as the National Environmental Policy Act (NEPA), Endangered Species Act (ESA), the Essential Fish Habitat provisions of the Sustainable Fisheries Act, Coastal Barrier Resources Act, National Historic Preservation Act, Americans with Disabilities Act, and others; technical needs for funding formula development; and other costs such as printing and public notices. Until the state plans have been submitted, it is difficult to predict the costs of complying with NEPA, ESA, and other federal authorities. If less than five percent is required for program administration, we will look to reallocate the remaining funds to the states and coastal political subdivisions.

The CIAP legislation allocates funds to eligible states and coastal political subdivisions according to a formula based on revenues from OCS leases, shoreline mileage and population of coastal political subdivisions, and distance from coastal political subdivisions to the OCS leased tracts. NOAA completed and released the allocations on April 16, 2001.

III. Developing the Coastal Impact Assistance Plan

Each Governor must designate a state agency to develop the Coastal Impact Assistance Plan. Coastal political subdivisions must supply a point of contact to the Governor's designated agency and a description of how they will expend their allotted funds. The local projects will be incorporated into the state plan and the Governor must certify that the uses of funds by the coastal political subdivisions are consistent with the authorized uses of funds specified in § 31(e) (§ 31(d)(2)(C)). Federal funds appropriated to the states under sections 306 or 309 of the CZMA may be used to develop the plan. See section IV.A. for more information on how states and coastal political subdivisions may incur CIAP costs before the funds are disbursed.

A. Public Participation

The CIAP legislation requires local input and public participation in the development of the plan (§ 31(d)(1)). This can be achieved through a variety of means: use of advisory committees; commission meetings; informal public workshops; or formal public hearings. At a minimum, states should involve the public in plan development, provide adequate public notice of plan availability, and a 30-day public comment period.

States should complete the 30-day public review period prior to July 1, 2001 so that the plans may be revised as necessary based on public comments before they are submitted by the statutory deadline. States may submit a draft plan to NOAA at the same time it is made available for public review. This will expedite NOAA's review and approval and allow NOAA to disburse the funds as quickly as possible.

B. Level of Detail

The plan must describe the individual state and local projects in as much detail as available. For most projects, a total budget will be sufficient, rather than a budget broken down into object class categories (e.g., personnel, equipment, contracts, etc.). However, NOAA reserves the right to request additional budget detail for large or complex projects. given the extremely ambitious schedule established in the legislation, and that state and local funding allocations were not completed until April 16, 2001, NOAA understands that many specific state and local projects may not be finalized by the July 1, 2001 due date. In addition, some states may want to spend more time working with state and local agencies to encourage the most beneficial use of funds. Therefore, NOAA will approve plans that describe generally how the state and coastal political subdivisions will expend their funds, i.e., by specifying the types of eligible projects they may undertake rather than complete project descriptions. However, NOAA must approve the specific projects and comply with NEPA, etc., before the funds are disbursed and the projects are undertaken. Before the funds are disbursed, the state, and coastal political subdivisions will submit a project description in sufficient detail to allow NOAA to review and approve it in accordance with the CIAP legislation.

1. Deadline

The CIAP legislation has a deadline of July 1, 2001, for submittal of CIAP plans. NOAA cannot extend the deadline beyond that date. However, the CIAP legislation gives NOAA the authority to hold funds in escrow for a state provided that the state is making a good faith effort to develop and submit, or update, a CIAP Plan) § 31(c)(4)). We recognize the difficult time lines and will use this authority to hold funds in escrow while a state completes its Plan. Our goal is to ensure that all states and counties receive their share of the CIAP funding in a timely manner, and we will work with you to see that this happens. States that are not going to meet the July 1, 2001 deadline should submit a letter or e-mail to NOAA briefly describing their plan development process and a target date for plan submittal.

C. Project Funding

Only the designated state agency and eligible coastal political subdivisions are guaranteed to receive funds under the CIAP legislation. However, the designated state agency and coastal political subdivisions may make sub-awards to other state or local agencies, universities, or other entities. The state or a coastal political subdivision may make sub-awards to municipalities within the coastal zone or coastal watershed for authorized projects. All projects do not need to be undertaken solely within the state's coastal zone; for example, the state or a coastal political subdivision may fund a watershed management plan that includes areas beyond the state's coastal zone. Coastal political subdivisions may combine their allocations to fund larger, mutually beneficial projects, or a state may choose to contribute some of its funding to a coastal political subdivision to allow that locality to fund a larger project. A coastal political subdivision may not receive less than its authorized allocation, however, unless the Governor or NOAA finds that its proposed uses of funds are inconsistent with the CIAP legislation, or the coastal political subdivision chooses to give up some of all of its allotted funds (see section D. Governor's Certification below).

D. Governor's Certification

Each coastal political subdivision must supply a point of contact and description of how it will expend its allotted funds. The coastal political subdivision must supply this information to the Governor, for the Governor to include in the plan. The Governor must certify that the uses of funds for local projects are consistent with the uses specified in the CIAP legislation (§ 31(d)(2)(C)). However, the Governor may not direct local funds toward or away from any authorized uses, with the exception of the limitation on infrastructure and other public service needs discussed in section IV of this document. If the Governor or NOAA find that uses of funds proposed by some coastal political subdivisions are inconsistent with the CIAP legislation, and the subdivisions are not making a good faith effort to revise the uses of their funds, or if some coastal political subdivisions choose not to participate in the CIAP, NOAA will allocate those funds to the remaining coastal political subdivisions in the state.

E. Plan Outline

To expedite disbursement of funds, NOAA recommends that the plan be written and submitted in sufficient detail to serve as a grant application. The CIAP legislation includes five elements which must be included in the plan, detailed in § 31(d)(2)(A)-(E). To ensure the required elements are included in the plan, NOAA recommends the following outline:

1. Designated State Agency

The CIAP legislation requires that the plan provide the name of the state agency that will have the authority to represent and act for the State in dealing with the Secretary for purposes of the program (§ 31)(d)(2)(A)). The seven governors have already designated agencies to serve as CIAP points of contact NOAA will assume that the currently designated agency remains the point of contact until we receive different information from the Governor. The Governor may make this determination at any time, even after plan approval.

2. Certification

The CIAP legislation requires a certification by the Governor that the uses of funds proposed by the coastal political subdivisions are consistent with the requirements of the program (§ 31(d)(2)(A)); and that ample opportunity has been accorded for public participation in the development of the plan (§ 31(d)(2)(D)). The certification can take the form of a letter from the Governor submitting the plan to NOAA, or an opening statement from the Governor in the plan itself. The plan should be submitted to the Secretary of Commerce.

3. Public Participation

This section should describe how the public and coastal political subdivision were involved in the development of the CIAP Plan (see section III.A. above)

4. Implementation Program

The CIAP legislation requires that the state plan contain “a program for the implementation of the plan which describes how the amounts provided under this section will be used” (§ 31(d)(2)(B)). NOAA anticipates that this section will be the bulk of the plan and will be central to NOAA's determination whether a state plan is consistent with the purposes specified in the CIAP legislation. A suggested format for this section is the following:

(1) a brief description of what the state hopes to achieve under the plan;

(2) a description of the major activities and/or categories to be funded under the plan (e.g., infrastructure, habitat restoration, acquisition, construction, etc.);

(3) a description of how the state will implement the plan (e.g., through state agencies, requests for project proposals, competitive grants, etc.); and

(4) an estimate of the amount of funds that will be spent on each activity or category.

When describing specific projects, the plan should describe the projects in the following manner:

(1) a one or two paragraph abstract plus up to two pages of background/additional detail, if necessary;

(2) a brief explanation of how the project is consistent with at least one of the uses authorized by the program; and

(3) the total cost of the project (NOAA reserves the right to request additional budget detail for large or complex projects).

The overall plan must contain a single budget broken down by object classes. See sections III.B-D of this document for more information on project selection and funding. All projects in the plan must be consistent with the uses of funds specified in the legislation.

5. Coordination With Other Federal Resources and Programs

The CIAP legislation requires that plans contain measures for taking into account other relevant federal resources and programs. (§ 31(d)(2)(E)) Examples of other federal resources and programs include: Coastal Zone Management Programs; National Estuarine Research Reserves; National Marine Sanctuaries; National Estuary Programs; National Wildlife Refuges and other preservation areas; restoration programs such as NOAA's Community-Based Habitat Restoration and Damage Assessment and Restoration Programs; federally funded conservation, development, or transportation projects; and federally mandated activities such as wetlands or endangered species protection. Projects funded under the CIAP should be consistent with other federal programs.

The plan should describe generally how the activities funded under the CIAP take into account other federal programs. This could be done through the public involvement process by ensuring that federal agencies are able to review and comment on the plan, through an existing state clearinghouse process whereby specific funding proposals are brought to the attention of federal and state agencies, or through similar means.

Specific activities funded under the CIAP should be coordinated with federal resources and programs wherever possible. For example, a state or local government could use some CIAP funds to expand or improve an existing restoration project, or acquire habitat areas needed to protect endangered species, or develop and implement regional restoration plans, or to apply best management practices to reduce nonpoint source pollution from land-based activities.

6. Coastal Political Subdivision Information

The CIAP legislation requires that the plan identify a contact for each coastal political subdivision (§ 31(d)(2)(C)). The list may be attached to the plan and should include the name of each coastal political subdivision, the name of the subdivision's contact and the contact's phone number and e-mail address. The legislation also requires that the plan contain a description of how coastal political subdivisions will use the amounts provided by the program. This section should contain a description of each political subdivision's plan that follows the format described in III.E.4.

F. Plan Amendments

Section 31(d)(4) of the CIAP legislation states that any amendment to the CIAP Plan shall be prepared according to the requirements and procedures of the Plan itself, including public involvement, Governor's certification, etc. For ease of administration, NOAA will use a similar process for reviewing plan amendments as we do for reviewing changes to state Coastal Zone Management Programs. There is an abbreviated process for minor changes and a more involved process for major changes. NOAA realizes that some minor changes to CIAP Plans may not constitute “amendments” and may be undertaken simply by notifying NOAA of the proposed change.

The plan amendment process may also be used by states to obtain NOAA approval of specific state or local projects after the overall CIAP Plan has been submitted. However, NOAA may not disburse the funds to be expended on those projects until the specific projects have been approved.

IV. Authorized Uses of Funds

The legislation identifies several categories of authorized uses of funds (§ 31(e)). The specific authorized uses of funds are:

1. Uses set forth in new section 32(c)(4) of the Outer Continental Shelf Lands Act proposed by the amendment to H.R. 701 of the 106th Congress as reported by the Senate Committee on Energy and Natural Resources. Those use are:

(A) Activities which support and are consistent with the Coastal Zone Management Act, including National Estuarine Research Reserve programs, the National Marine and Management Act, or the National Estuaries program;

(B) Conservation, restoration, enhancement or protection of coastal or marine habitats including wetlands, estuaries, coastal barrier islands, coastal fishery resources and coral reefs, including projects to remove abandoned vessels or marine debris that may adversely affect coastal habitats;

(C) Protection, restoration and enhancement of coastal water quality consistent with the provisions of the Coastal Zone Management Act (16 U.S.C. 1451 et seq.), including the reduction or monitoring of coastal polluted runoff or other coastal contaminants;

(D) Addressing watershed protection or other coastal or marine conservation needs which cross jurisdictional boundaries;

(E) Assessment, research, mapping and monitoring of coastal or marine resources and habitats, including, where appropriate, the establishment and monitoring of marine protected areas;

(F) Addressing coastal conservation needs associated with seasonal or otherwise transient fluctuations in coastal populations;

(G) Protection and restoration of natural coastline protective features, including control of coastline erosion;

(H) Identification, prevention and control of invasive exotic and harmful non-indigenous species;

(I) Assistance to local communities to assess, plan for and manage the impacts of growth and development on coastal or marine habitats and natural resources, including coastal community fishery assistance programs that encourage participation in sustainable fisheries; and

(J) Projects that promote research, education, training and advisory services in fields related to coastal and Great Lakes living marine resource use and management;

2. Projects and activities for the conservation, protection or restoration of wetlands;

3. Mitigating damage to fish, wildlife or natural resources, including such activities authorized under subtitle B of the title IV of the Oil Pollution Act of 1990 (oil spill removal and contingency planning);

4. Planning assistance and administrative costs of complying with the provisions of this section;

5. Implementation of Federally approved marine, coastal, or comprehensive conservation management plans; and

6. Onshore infrastructure projects and other public service needs intended to mitigate the environmental effects of Outer Continental Shelf activities (up to 23 percent of allocation).

Please note that the CIAP legislation limits funds spent on category six above to 23 percent of the total funds allocated to each state (including the portion allocated to coastal political subdivisions). Thus, each plan may expend up to 23 percent on onshore infrastructure projects and other public service needs, but there is no restriction on whether portions of the state or local allocations, or both, are used for these purposes. The state plan must clearly identify which projects fall into this category and the Governor must ensure that no more than 23 percent of the funds are spent on eligible onshore infrastructure projects and other public service needs. The descriptions of these types of project must include information on how the projects meet the statutory requirement of mitigating the environmental effects of Outer Continental Shelf activities.

For CIAP purposes, NOAA has developed proposed definitions of infrastructure and non-infrastructure:

Infrastructure—Construction of public services and facilities (such as buildings, roads, bridges, sewer and water lines, wastewater treatment facilities, detention/retention ponds, seawalls, breakwaters, piers, port facilities) needed to support commerce as well as economic development. Infrastructure encompasses land acquisition, new construction, and upgrades and repairs to existing facilities.

Non-infrastructure—Projects that involve construction-type activities that are not considered infrastructure include: wetlands/coastal habitat protection and restoration, vegetative erosion control, and beach re-nourishment (however, sea walls, breakwaters, etc., that may accompany beach re-nourishment projects are considered infrastructure). Small scale construction projects for public access and resource protection purposes (similar to CZMA section 306A projects) such as boardwalks, dune walkovers, hiking trails, recreational boat ramps, and picnic shelters, as well as land acquisition associated with these projects, are not considered infrastructure.

A. Incurring Costs before CIAP Plan Approval

States and coastal political subdivisions may request “pre-award costs,” i.e., costs incurred by the state and/or counties prior to plan submittal and approval. Pre-award costs would allow states and coastal political subdivisions to use CIAP funds to pay for eligible costs incurred before the CIAP plans are approved and funds disbursed. Only pre-award costs incurred after March 1, 2001, when NOAA released the preliminary draft CIAP guidance, may be recovered by CIAP funds. States or coastal political subdivisions may begin work on eligible projects prior to the disbursement of funds at their own risk, i.e., funding is not guaranteed until NOAA reviews and approves the state CIAP plan.

V. Plan Review and Approval

NOAA has 90 days from receipt of the plan to review it and make an approval decision. NOAA's review will be based on the five program approval criteria specified in the CIAP legislation (§ 31(d)(2)(A)-(E)). This includes a review of the Governor's certification that all uses of local funds are consistent with the legislation. If NOAA does not approve the plan, NOAA will work with the state to revise it until it can be approved, and hold the funds in escrow until the plan is approved as called for in the CIAP legislation (§ 31(4)). If the state is not making good faith effort to develop, submit, or update the plan, NOAA may allocate those funds to the remaining states and coastal political subdivisions.

VI. Compliance With Federal Authorities

The approval of CIAP plans and disbursement of funds are federal activities subject to authorities such as the National Environmental Policy Act (NEPA), Endanagered Species Act (ESA), the federal consistency provisions of the CZMA, the Essential Fish Habitat provisions of the Sustainable Fisheries Act, Coastal Barrier Resources Act, National Historic Preservation Act, and Americans with Disabilities Act. As the federal funding agency, NOAA is responsible for complying with these and other relevant authorities before disbursing funds.

NOAA is working to determine the best process for complying with these authorities. NOAA is now developing an Environmental Assessment for our approval of the seven state CIAP plans, and reviewing specific project proposals to determine what additional reviews will be necessary. NOAA may ask for the states' assistance in providing information on specific projects to facilitate this task and the disbursing of funds. Such information could include an assessment of the projects' potential impacts on threatened and endangered species and their habitats, coastal resources, and the coastal environment.

NOAA uses a “Section 306A Project Checklist” for construction and land acquisition projects funded under section 306A and CZMA. The checklist is used to ensure funded projects comply with NEPA, ESA, and other federal programs. We have distributed a modified checklist that states and counties have the option of using as a screening tool for CIAP projects to ascertain which projects require additional NEPA, ESA, or other compliance review beyond the initial Environmental Assessment on the state CIAP plan. The checklist was reviewed by the Office of Management and Budget under the Paperwork Reduction Act and has been forwarded to the states. The use of the checklist does not affect the eligibility of any project under the CIAP.

A. Federal Consistency

State and local agencies applying for CIAP funds may be subject to federal consistency under 15 CFR part 930, subpart F (Federal assistance activities). Pursuant to section 31(d)(2)(C) of the Outer Continental Shelf Lands Act (43 U.S.C. 1331 et seq), as amended by the Department's of Commerce, Justice, and State, the Judiciary, and Related Agencies Appropriations Act, the Governor of each participating state must certify that all state and local expenditures are consistent with the overall CIAP plan. Thus, federal consistency can be conducted for the plans and in that case consistency would not be required for each expenditure proposal. A consistency certification would need to be prepared even in cases where the state agency responsible for preparing the CIAP plan is also the state coastal management agency designated under the CZMA and the CZMA federal consistency regulations (15 CFR § 930.11(o)). This will ensure compliance with the public participation requirements under the CZMA. Described below are the general federal consistency requirements for federal assistance activities.

Review Procedures

Federal consistency review for federal assistance activities is normally conducted through procedures established by states pursuant to Executive Order 12372—intergovernmental review of federal programs. The agency preparing the CIAP plan should submit the plan for consistency review through the intergovernmental review process or directly to the state coastal management agency responsible for implementing the coastal management program (CMP). In addition to the plan, the state agency should provide a brief evaluation of the relationship of the proposed activities in the plan and any reasonably foreseeable effects on the state's coastal uses or resources to the CMP's enforceable policies. 15 CFR § 930.94(c).

Please contact the federal consistency coordinator in your state coastal management agency or the CIAP contacts at NOAA for further information on federal consistency.

VII. Disbursing the Coastal Impact Assistance Program Funds

NOAA will award individual grants directly to the state and all coastal political subdivisions within the state. The NOAA Grants Management Division has developed a streamlined grant application process for CIAP awards. Subsequent to NOAA approval of the state CIAP plans, the state and local CIAP points of contact will be receiving a “Coastal Impact Assistance Program Award Notification” letter containing information on how to access CIAP funds and information on Administrative/Programmatic requirements. The state and local recipients of CIAP awards will fill out several standard forms, sign the notification letter, and return the package to NOAA.

States and coastal political subdivisions will be able to draw down funds on a “pay as you go” basis. This means that funds may be drawn down a reasonable amount of time in advance of when they are needed in order to comply with 15 CFR Part 24.21.

The CIAP legislation does not have a time limit for use of the appropriated funds. However, a NOAA grant to a state or coastal political subdivision will need an end date. NOAA will issue grants with a 3-year award period. A no-cost extension of the award period could be requested if necessary.

A. Trust Funds

The CIAP legislation allows states and coastal political subdivisions to deposit funds in trust funds dedicated to uses consistent with the legislation (§ 31(e)). Trust funds should be established in accordance to relevant state or local laws and procedures. However, the Department of Commerce has determined that any interest generated from the trust fund must be returned to the federal government. The “Uniform Administrative Requirements for Grants and Cooperative Agreements to State and Local Governments” (15 CFR part 24) provide that advance payments made to a recipient are to be placed in an interest-bearing account until actually disbursed and that the interest earned is to be returned to the Federal government. The issue, then, is whether placing the money in the trust funds constitutes a “disbursement.” The Department of Commerce has determined that placing the CIAP grant money in the trust fund would not be considered a disbursement and therefore the interest would need to be returned to the federal government.

VIII. Compliance With Authorized Uses of Funds

The CIAP legislation states that if NOAA finds that a state or coastal political subdivision has expended funds inconsistent with the specified uses, NOAA will not disburse any further amounts under the CIAP until the funds in question have been repaid or obligated for authorized uses (§ 31(f)). NOAA would cease disbursing funds directed only toward the specific jurisdiction, not all funds covered under a single grant, under this scenario.

To ensure all funds are spent on authorized uses, the states and coastal political subdivisions will submit annual progress reports to NOAA until all funds have been expended. NOAA will accept separate reports from the state and each coastal political subdivision, so the state will not need to receive and collate local reports (the state may choose to receive local reports). The report must include all uses of state and local funds. At a minimum, the report should include:

(1) The status of each project, including accomplishments to date, estimated time for completion, and explanation for any anticipated delays;

(2) any approved amendments and/or extensions to the CIAP plan; and

(3) for completed projects, submittal of relevant work products (e.g., reports, data sets, links to on-line photographs, etc.)

If some or all the funds have been deposited in a trust fund, the trust fund must report annually on the uses of those funds.

Dated: October 3, 2001.
Jamison S. Hawkins,
Deputy Assistant Administrator, Ocean Services and Coastal Zone Management, National Oceanic and Atmospheric Administration, Department of Commerce.

[FR Doc. 01-25198 Filed 10-5-01; 8:45 am]

BILLING CODE 3510-08-M